DEPARTMENT OF TRANSPORTATION

Federal Aviation Administration

14 CFR Part 39

[Docket No. FAA-2015-7529; Directorate Identifier 2014-NM-207-AD]

RIN 2120-AA64

Airworthiness Directives; Bombardier, Inc. Airplanes

AGENCY: Federal Aviation Administration (FAA), DOT.

ACTION: Notice of proposed rulemaking (NPRM).

SUMMARY: We propose to supersede Airworthiness Directive (AD) 2014-16-02, for certain Bombardier, Inc. Model CL-600-1A11 (CL-600) airplanes. AD 2014-16-02 currently requires revising the airplane flight manual to prohibit thrust reverser operation, doing repetitive detailed inspections of both engine thrust reversers for cracks, and modifying the thrust reversers if necessary. The modification of the thrust reversers is also an optional terminating action for the repetitive inspections. Since we issued AD 2014-16-02, we have determined that it is necessary to add a requirement to repair or modify the thrust reversers, which would terminate the requirements of AD 2014-16-02. We are proposing this AD to detect and correct cracks of the translating sleeve at the thrust reverser actuator attachment points, which could result in deployment or dislodgement of an engine thrust reverser in flight and subsequent reduced control of the airplane.

DATES: We must receive comments on this proposed AD by February 8, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone: 514-855-5000; fax: 514-855-7401; email: thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-7529; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue, Suite 410, Westbury, NY 11590; telephone: 516-228-7318; fax: 516-794-5531.

SUPPLEMENTARY INFORMATION:

Comments Invited

We invite you to send any written relevant data, views, or arguments about this proposed AD. Send your comments to an address listed under the ADDRESSES section. Include “Docket No. FAA-2015-7529; Directorate Identifier 2014-NM-207-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 4, 2014, we issued AD 2014-16-02, Amendment 39-17926 (79 FR 46968, August 12, 2014). AD 2014-16-02 requires actions intended to address an unsafe condition on certain Bombardier, Inc. Model CL-600-1A11 (CL-600) airplanes. AD 2014-16-02 is parallel to Canadian AD CF-2014-19, dated June 20, 2014, which additionally mandated repair or modification of the thrust reversers. At that time, we had determined that the compliance time for that action would allow enough time to provide notice and opportunity for prior public comment on the merits of the actions. The preamble to AD 2014-16-02 indicated we were considering further rulemaking to require repair or modification of the thrust reversers. We now have determined that further rulemaking is necessary.

FAA's Determination and Requirements of This Proposed AD

This product has been approved by the aviation authority of another country, and is approved for operation in the United States. Pursuant to our bilateral agreement with the State of Design Authority, we have been notified of the unsafe condition described in the Mandatory Continuing Airworthiness Information (MCAI) and service information referenced above. We are proposing this AD because we evaluated all pertinent information and determined an unsafe condition exists and is likely to exist or develop on other products of the same type design.

Costs of Compliance

We estimate that this proposed AD affects 18 airplanes of U.S. registry.

The actions required by AD 2014-16-02, Amendment 39-17926 (79 FR 46968, August 12, 2014), and retained in this proposed AD, take about 29 work-hours per product, at an average labor rate of $85 per work-hour. Based on these figures, the estimated cost of the actions that are required by AD 2014-16-02 is $2,465 per product.

We also estimate that it would take about 100 work-hours per product to comply with the basic requirements of this proposed AD. The average labor rate is $85 per work-hour. Required parts would cost about $509 per product. Based on these figures, we estimate the cost of this proposed AD on U.S. operators to be $162,162, or $9,009 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-16-02, Amendment 39-17926 (79 FR 46968, August 12, 2014), and adding the following new AD:

Bombardier, Inc.: Docket No. FAA-2015-7529; Directorate Identifier 2014-NM-207-AD.

(a) Comments Due Date

We must receive comments by February 8, 2016.

(b) Affected ADs

This AD replaces AD 2014-16-02, Amendment 39-17926 (79 FR 46968, August 12, 2014).

(c) Applicability

This AD applies to Bombardier, Inc. Model CL-600-1A11 (CL-600) airplanes, certificated in any category, serial numbers 1004 through 1085.

(d) Subject

Air Transport Association (ATA) of America Code 78, Engine Exhaust.

(e) Reason

This AD was prompted by reports of partial deployment of an engine thrust reverser in flight caused by a failure of the translating sleeve at the thrust reverser attachment points. We are issuing this AD to detect and correct cracks of the translating sleeve at the thrust reverser actuator attachment points, which could result in deployment or dislodgement of an engine thrust reverser in flight and subsequent reduced control of the airplane.

(f) Compliance

Comply with this AD within the compliance times specified, unless already done.

(g) Retained Airplane Flight Manual (AFM) Revision With No Changes

This paragraph restates the requirements of paragraph (g) of AD 2014-16-02, Amendment 39-17926 (79 FR 46968, August 12, 2014), with no changes. Within 1 calendar day after August 12, 2014 (the effective date of AD 2014-16-02): Revise the applicable sections of the AFM to include the information specified in the temporary revisions (TRs) identified in paragraphs (g)(1), (g)(2), (g)(3), and (g)(4) of this AD, as applicable. These TRs introduce procedures to prohibit thrust reverser operation. Operate the airplane according to the limitations and procedures in the TRs identified in paragraphs (g)(1), (g)(2), (g)(3), and (g)(4) of this AD, as applicable. The revision required by paragraph (g) of this AD may be done by inserting copies of the applicable TRs identified in paragraphs (g)(1), (g)(2), (g)(3), and (g)(4) of this AD into the AFM. When these TRs have been included in general revisions of the AFM, the general revisions may be inserted in the AFM, provided the relevant information in the general revision is identical to that in the applicable TRs, and the TRs may be removed.

(1) Canadair TR 600/29, dated June 20, 2014, to the Canadair CL-600-1A11 AFM.

(2) Canadair TR 600/30, dated June 6, 2014, to the Canadair CL-600-1A11 AFM.

(3) Canadair TR 600-1/24, dated June 20, 2014, to the Canadair CL-600-1A11 AFM (Winglets) including Erratum, Publication No. PSP 600-1AFM (US), TR No. 600-1/24, June 20, 2014.

(4) Canadair TR 600-1/26, dated June 6, 2014, to the Canadair CL-600-1A11 AFM (Winglets).

(h) Retained Repetitive Inspections With No Changes

This paragraph restates the requirements of paragraph (h) of AD 2014-16-02, Amendment 39-17926 (79 FR 46968, August 12, 2014), with no changes. Within 25 flight cycles or 90 days, whichever occurs first, after August 12, 2014 (the effective date of AD 2014-16-02), do detailed inspections (including a borescope inspection) of both engine thrust reversers for cracks, in accordance with the Accomplishment Instructions of Bombardier Alert Service Bulletin A600-0769, Revision 01, dated June 26, 2014.

(1) If no cracking is found during any inspection required by paragraph (h) of this AD, repeat the inspection required by paragraph (h) of this AD thereafter at intervals not to exceed 100 flight cycles until the repair or modification specified in paragraph (i) or (k) of this AD is done.

(2) If any cracking is found during any inspection required by paragraph (h) of this AD, before further flight, modify the thrust reversers on both engines, in accordance with the Accomplishment Instructions of Bombardier Alert Service Bulletin A600-0769, Revision 01, dated June 26, 2014.

(i) Retained Optional Terminating Modification With No Changes

This paragraph restates the requirements of paragraph (i) of AD 2014-16-02, Amendment 39-17926 (79 FR 46968, August 12, 2014), with no changes. Modifying the thrust reversers on both engines, in accordance with the Accomplishment Instructions of Bombardier Alert Service Bulletin A600-0769, Revision 01, dated June 26, 2014, terminates the inspections required by paragraph (h) of this AD.

(j) Retained Credit for Previous Actions With No Changes

This paragraph restates the requirements of paragraph (j) of AD 2014-16-02, Amendment 39-17926 (79 FR 46968, August 12, 2014), with no changes. This paragraph provides credit for actions required by paragraphs (h) and (i) of this AD, if those actions were performed before August 12, 2014 (the effective date of AD 2014-16-02) using Bombardier Alert Service Bulletin A600-0769, dated June 19, 2014, which is not incorporated by reference in this AD.

(k) New Requirement of This AD: Repair/Modify

Within 24 months after the effective date of this AD, repair or modify the thrust reversers on both engines, using a method approved by the Manager, New York Aircraft Certification Office (ACO), ANE-170, FAA; or Transport Canada Civil Aviation (TCCA); or Bombardier, Inc.'s TCCA Design Approval Organization (DAO). Accomplishment of the repair or modification of all thrust reversers terminates the requirements of paragraphs (h) and (i) of this AD.

(l) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the New York ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, New York ACO, ANE-170, FAA; or TCCA; or Bombardier, Inc.'s TCCA DAO. If approved by the DAO, the approval must include the DAO-authorized signature.

(m) Related Information

(1) Refer to Mandatory Continuing Airworthiness Information (MCAI) Canadian AD CF-2014-19, dated June 20, 2014, for related information. This MCAI may be found in the AD docket on the Internet at http://www.regulations.gov by searching for and locating Docket No. FAA-2015-7529.

(2) For service information identified in this AD, contact Bombardier, Inc., 400 Côte-Vertu Road West, Dorval, Québec H4S 1Y9, Canada; telephone: 514-955-5000; fax: 514-855-7401; email: thd.crj@aero.bombardier.com; Internet http://www.bombardier.com. You may view this service information at the FAA, Transport Airplane Directorate, 1601 Lind Avenue SW., Renton, WA. For information on the availability of this material at the FAA, call 425-227-1221.

Issued in Renton, Washington, on December 11, 2015.
Michael Kaszycki,
Acting Manager, Transport Airplane Directorate, Aircraft Certification Service,

[FR Doc. 2015-32085 Filed 12-23-15; 8:45 am]

BILLING CODE 4910-13-P